DEPARTMENT OF THE TREASURY

Submission for OMB Review; Comment Request

February 15, 2010.

The Department of the Treasury will submit the following public information collection requirement to OMB for review and clearance under the Paperwork Reduction Act of 1995, Public Law 104-13 on or after the date of publication of this notice. A copy of the submission may be obtained by calling the Treasury Bureau Clearance Officer listed. Comments regarding this information collection should be addressed to the OMB reviewer listed and to the Treasury PRA Clearance Officer, Department of the Treasury, 1750 Pennsylvania Avenue, NW., Suite 11010, Washington, DC 20220.

DATES: Written comments should be received on or before March 24, 2011 to be assured of consideration.

Internal Revenue Service (IRS)

OMB Number: 1545-0099.

Type of Review: Revision to a currently approved collection.

Title: U.S. Return of Partnership Income and related schedules.

Form: 1065 and related schedules.

Abstract: IRC section 6031 requires partnerships to file returns that show gross income items, allowable deductions, partners' names, addresses, and distribution shares, and other information. This information is used to verify correct reporting of partnership items and for general statistics.

Respondents: Private sector: Businesses or other for-profits.

Estimated Total Burden Hours: 830,348,067 hours.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-3787 Filed 2-18-11; 8:45 am]

BILLING CODE 4830-01-P